DEPARTMENT OF THE INTERIOR

Fish and Wildlife Service

Information Collection Submitted to the Office of Management and Budget (OMB) for Approval Under the Paperwork Reduction Act; Research To Support Outdoor Recreation Management at Lake Umbagog National Wildlife Refuge

AGENCY: Fish and Wildlife Service, Interior.

ACTION: Notice; request for comments.

SUMMARY: We (Fish and Wildlife Service) have requested that OMB approve our information collection associated with research to support outdoor recreation management at Lake Umbagog National Wildlife Refuge, Errol, New Hampshire. We have requested that OMB approve this information collection for a 1-year term.

DATES: You must submit comments on or before June 19, 2006.

ADDRESSES: Send your comments and suggestions on this information collection to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements, explanatory information, or related form, contact Hope Grey, Information Collection Clearance Officer, at the above addresses or by telephone at (703) 358-2482.

SUPPLEMENTARY INFORMATION: OMB regulations at 5 CFR part 1320, which implement the provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

On January 27, 2006, we published in the Federal Register (71 FR 4607) a notice of our intent to request information collection authority from OMB. In that notice, we solicited public comments for 60 days, ending March 28, 2006. We received comments from one individual who objected to the use of Lake Umbagog National Wildlife Refuge for hunting, trapping, and related recreational uses. The commenter did not address the necessity, clarity, or accuracy of the information collection, but suggested that we seek input from the public outside the local area of the refuge. The proposed survey will include a representative sample of all visitors to the refuge, both local and non-local. We did not make any changes to our information collection based on this comment.

The National Wildlife Refuge Improvement Act of 1997, which amended the National Wildlife Refuge System Administration Act (16 U.S.C. 668dd-668ee), guides planning and management of the National Wildlife Refuge System. The law identifies six priority wildlife-dependent recreational uses and provides a process for ensuring that these and other activities do not conflict with the management purpose and goals of each refuge.

The Act also requires that we develop a comprehensive conservation plan (CCP) for every refuge by the year 2012. A refuge CCP outlines goals, objectives, and management strategies for the refuge. It provides a vision and describes desired future conditions for the refuge. Development of a CCP for Lake Umbagog National Wildlife Refuge is ongoing and requires baseline information on recreation use and use patterns at the refuge. Since recreation use is dispersed at this refuge, the only feasible way to collect information on recreation use is through an onsite visitor survey. We will ask questions about visitor experience, wildlife disturbance, crowding, fishing, and camping. This type of information is especially important at Lake Umbagog National Wildlife Refuge because of increasing concern over growing recreational use and its potential impacts on sensitive wildlife populations.

Title of Collection: Research to Support Outdoor Recreation Management at Lake Umbagog National Wildlife Refuge.

OMB Control Number: None; this is a new collection.

Form Number: FWS Form 3-2330.

Frequency of Responses: On occasion.

Description of Respondents: Visitors to Lake Umbagog National Wildlife Refuge.

Number of Respondents: 500.

Number of Responses: 500.

Estimated Total Annual Burden Hours: 125 hours. We estimate that the reporting burden will average 15 minutes per respondent.

We invite your comments concerning this information collection on: (1) Whether or not the collection of information is necessary to properly manage visitor carrying capacity, including whether or not the information will have practical utility; (2) the accuracy of the agency's estimate of burden; (3) ways to enhance the quality, utility and clarity of the information to be collected; and (4) ways to minimize the burden of the collection of information on those who are to respond.

Dated: April 14, 2006.
Hope Grey,
Information Collection Clearance Officer, Fish and Wildlife Service.

[FR Doc. E6-7608 Filed 5-17-06; 8:45 am]

BILLING CODE 4310-55-P